DEPARTMENT OF HOMELAND SECURITY

[Docket No. DHS-2016-0084]

Homeland Security Science and Technology Advisory Committee

AGENCY: Science and Technology Directorate, DHS.

ACTION: Committee Management; Notice of Federal Advisory Committee Meeting.

SUMMARY: The Homeland Security Science and Technology Advisory Committee (HSSTAC) will meet on November 3-4, 2016 in Washington, DC. The meeting will be an open session with both in-person and webinar participation.

DATES: The HSSTAC will meet in-person Thursday, November 3, 2016, from 10 a.m.-4:25 p.m. and Friday, November 4, 2016, from 9 a.m.-3:30 p.m.

ADDRESSES: Homeland Security, 1120 Vermont Ave. NW., 8th Floor, Washington, DC 20005.

FOR FURTHER INFORMATION CONTACT: Michel Kareis, HSSTAC Designated Federal Official, S&T IAO STOP 0205, Department of Homeland Security, 245 Murray Lane, Washington, DC 20528-0205, 202-254-8778 (Office), 202-254-6176 (Fax) Michel.Kareis@hq.dhs.gov (Email).

SUPPLEMENTARY INFORMATION: Due to security requirements, screening pre-registration is required for this event. Please see the “REGISTRATION” section below.

The meeting may close early if the committee has completed its business.

I. Background

Notice of this meeting is given under the Federal Advisory Committee Act (FACA), 5 U.S.C. appendix (Pub. L. 92-463). The committee addresses areas of interest and importance to the Under Secretary for Science and Technology (S&T), such as new developments in systems engineering, cyber-security, knowledge management and how best to leverage related technologies funded by other Federal agencies and by the private sector. It also advises the Under Secretary on policies, management processes, and organizational constructs as needed.

II. Registration

To pre-register for the virtual meeting (webinar) please send an email to: hsstac@hq.dhs.gov. The email should include the name(s), title, organization/affiliation, email address, and telephone number of those interested in attending. For information on services for individuals with disabilities or to request special assistance at the meeting, please contact Michel Kareis as soon as possible.

If you plan to attend the meeting in-person you must RSVP by November 1, 2016. To register, email hsstac@hq.dhs.gov with the following subject line: RSVP to HSSTAC Meeting. The email should include the name(s), title, organization/affiliation, email address, and telephone number of those interested in attending.

III. Public Comment

At the end of each open session, there will be a period for oral statements. Please note that the oral statement period may end before the time indicated, following the last call for oral statements. To register as a speaker, contact the person listed in the FOR FURTHER INFORMATION CONTACT section.

To facilitate public participation, we invite public comment on the issues to be considered by the committee as listed in the “Agenda” below. Written comments must be received by October 21, 2016. Please include the docket number (DHS-2016-0084) and submit via one of the following methods:

• Federal eRulemaking Portal: http://www.regulations.gov. Follow the instructions for submitting comments.

• Email: hsstac@hq.dhs.gov. Include the docket number in the subject line of the message.

• Fax: 202-254-6176.

• Mail: Michel Kareis, HSSTAC Executive Director, S&T IAO STOP 0205, Department of Homeland Security, 245 Murray Lane, Washington, DC 20528-0205.

Instructions: All submissions received must include the words “Department of Homeland Security” and the docket number. Comments received will be posted without alteration at http://www.regulations.gov.

Docket: For access to the docket to read the background documents or comments received by the HSSTAC, go to http://www.regulations.gov and enter the docket number into the search function: DHS-2016-0084.

Agenda: Day 1: The morning session will cover updates for HSSTAC deliverables under development in the following Subcommittees: Commercialization, Social Media Working Group and IOT Smart Cities and will provide committee members an opportunity to input into the draft recommendations. A follow up discussion will be held on the request from the September webinar for contacts to be nominated for the Science Advisory Guide for Emergencies (SAGE). Science Advisory Guide for Emergencies is a tool approved as the S&T process for leadership to attain science support information concerning homeland security incidents/emergencies in order to mitigate, respond, and recover from those incidents. The second session will focus on a Quadrennial Homeland Security Review (QHSR) including an update on the material covered in the June meeting. Members will be asked to provide input into the QHSR material presented. Comments and questions from the public will follow the two morning sessions. The afternoon session will begin with a discussion led by DHS, Under Secretary for Science and Technology, Dr. Reginald Brothers on emerging threats to national security, priorities of the Under Secretary for Science and Technology, and the strategic plan for the Science and Technology Directorate. Committee members will be asked to provide feedback on the emerging national security threats. The final afternoon session will consist of discussions on the QHSR review for 2018. Members will be asked to provide input that is vital to the 2018 review and to form a subcommittee as a means to follow up on the topics discussed in more depth. This session will end with comments and questions from the public. Day 2: The morning session will begin with a briefing on the Internet of Things Smart Cities. A high value overview of the issues will be presented, followed by a discussion on best practices and lessons learned. Comments and questions from the public will follow the discussion. The afternoon session will include discussions on the 2017 HSSTAC Roadmap, science and technology topics, and issues or technology gaps that need to be addressed. The second session will cover a recap of comments from the HSSTAC, identification of a path forward for the year, and to determine if there is a need for more subcommittees on the issues discussed. There will be a period for public comment prior to adjourning the meeting.

Michel Kareis,
Executive Director, Homeland Security Science and Technology Advisory Committee.

[FR Doc. 2016-25323 Filed 10-14-16; 4:15 pm]

BILLING CODE 9110-9F-P